DEPARTMENT OF ENERGY

Proposed Agency Information Collection

AGENCY: Department of Energy.

ACTION: Notice and request for comments.

SUMMARY: The Department of Energy (DOE) invites public comment on a continuation of a collection of information that DOE is developing for submission to the Office of Management and Budget (OMB) pursuant to the Paperwork Reduction Act of 1995. The package requests a three-year extension of its Financial Assistance Information Collection, OMB Control Number 1910-0400. This information collection package covers collections of information necessary to plan, solicit, negotiate, award and administer grants and cooperative agreements under the Department's financial assistance programs. The information is used by Departmental management to exercise management oversight with respect to implementation of applicable statutory and regulatory requirements and obligations. The collection of this information is critical to ensure that the Government has sufficient information to judge the degree to which awardees meet the terms of their agreements; that public funds are spent in the manner intended; and that fraud, waste and abuse are immediately detected and eliminated. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before February 3, 2006. If you anticipate difficulty in submitting comments within that period, contact the person listed below as soon as possible.

ADDRESSES: Written comments may be sent to Richard Langston, Office of Procurement and Assistance, MA-61, 1000 Independence Avenue, SW., Washington, DC, 20585, or by fax at 202-287-1345, or by e-mail at Richard.Langston@hq.doe.gov and to Sharon Evelin, Director, Records Management Division IM-11/Germantown Bldg., Office of Business and Information Management, Office of the Chief Information Officer, U.S. Department of Energy, 1000 Independence Ave., SW., Washington, DC 20585-1290 or by fax, 301-903-3455 or by e-mail to Sharon.Evelin@hq.doe.gov.

FOR FURTHER INFORMATION CONTACT: Requests for additional information or copies of the information collection instrument and instructions should be directed to Richard Langston at the address above.

SUPPLEMENTARY INFORMATION: This package contains: (1) OMB No.: 1910-0400; (2) Package Title: DOE Financial Assistance Information Clearance; (3) Type of Review: Continuation of Information Collection under Paperwork Reduction Act; (4) Purpose: This information collection package covers collections of information necessary to plan, solicit, negotiate, award and administer grants and cooperative agreements under the Department's financial assistance programs. The information is used by Departmental management to exercise management oversight with respect to implementation of applicable statutory and regulatory requirements and obligations. The collection of this information is critical to ensure that the Government has sufficient information to judge the degree to which awardees meet the terms of their agreements; that public funds are spent in the manner intended; and that fraud, waste and abuse are immediately detected and eliminated; (5) Privacy Impact Assessment: This is not applicable as none of the collections requests personal or private information; (6) Number of Collections: 36; (7) Respondents: 44,457; and, (8) Estimated Number of Burden Hours: 415,544.

Statutory Authority: Section 3506(c)(2)(A) of the Paperwork Reduction Act of 1995 (Pub. L. 104-13).

Dated: Issued in Washington, DC, on November 18, 2005.
Michael P. Fischetti,
Director, Office of Procurement and Assistance Policy, Office of Procurement and Assistance Management.

[FR Doc. E5-6843 Filed 12-2-05; 8:45 am]

BILLING CODE 6450-01-P